SOCIAL SECURITY ADMINISTRATION

[Docket No. SSA-2008-0018]

Retirement Research Consortium Request for Applications (RFA) Program Announcement No. SSA-ORES-08-01

AGENCY: Social Security Administration (SSA).

ACTION: Request for Applications for a Cooperative Agreement to Re-Compete a Retirement Research Consortium (RRC).

SUMMARY: The growing share of older Americans in the population has profound long term effects on Social Security. Social Security's Board of Trustees projects that the program will be in poor fiscal shape over the long term at currently legislated payroll tax and benefit levels as a result of demographic changes. Through education and research efforts, the Social Security Administration (SSA) is committed to addressing these difficulties and ensuring responsive programs and sustainable solvency. SSA's research efforts will support informed public discussion and creative thinking that relates the principles of the program to economic and demographic realities and changing needs and preferences of American households.

As authorized under section 1110 of the Social Security Act, SSA announces the solicitation of applications for a cooperative agreement to re-compete a Retirement Research Consortium to help inform the public and policymakers about Social Security issues. In the first year, the Consortium will be composed of one or more research centers. The centers will have a combined annual budget of approximately $7.5 million. SSA expects to fund the centers for a period of 5 years, contingent on an annual review process and continued availability of funds.

DATES: The closing date for submitting applications under this announcement is June 9, 2008. Letters of Intent are due by May 9, 2008.

ADDRESSES: SSA requires that applicants submit an electronic application through www.grants.gov for Funding Opportunity Number SSA-ORES-08-1. The www.grants.gov, “Get Registered” Internet page is available to help explain the registration and application submission process. In addition, new Federal grant applicants may find the Grants.gov “Registration Brochure” on the above noted Internet page to be helpful. If you experience problems with the steps related to registering to do business with the Federal Government or application submission, your first point of contact is the Grants.gov support staff at support@grants.gov, 1-800-518-4726. If your difficulties are not resolved, you may also contact the SSA Grants Management Team for assistance: Gary Stammer, 410-965-9501; Audrey Adams, 410-965-9469; or Mary Biddle, 410-965-9503. If extenuating circumstances prevent you from submitting an application through www.grants.gov, please contact the SSA Grants Management Team for possible prior approval to download, complete and submit an application by mail. Should SSA grant such approval, the downloadable application package will be available at www.ssa.gov/oag. Please fax inquiries regarding the application process to the Grants Management Team at 410-966-9310 or mail to: Social Security Administration, Office of Acquisition and Grants, Grants Management Team, Attention: SSA-ORES-08-1, 1st Floor—Rear Entrance, 7111 Security Blvd., Baltimore, MD 21244. To ensure receipt of the proper application package, please include program announcement number SSA-ORES-08-1 and the date of this announcement.

FOR FURTHER INFORMATION CONTACT: For nonprogrammatic information regarding the announcement or application package, contact: SSA, Office of Acquisition and Grants, Grants Management Team, 7111 Security Blvd., 1st Floor—Rear Entrance, Baltimore, MD 21244. Contact persons are: Gary Stammer, Grants Management Officer, telephone (410) 965-9501, (e-mail: Gary.Stammer@ssa.gov); or Mary Biddle, Grants Management Officer, telephone (410) 965-9503, e-mail: Mary.Biddle@ssa.gov. The fax number is (410) 966-9310.

For information on the program content of the announcement/application, contact: Sharmila Choudhury, SSA, Office of Retirement and Disability Policy, 500 E St., SW., Room 913, Washington, DC 20254. The fax number is (202) 358-6187. The telephone number is (202) 358-6261 (e-mail: sharmila.choudhury@ssa.gov).

SUPPLEMENTARY INFORMATION:

Table of Contents

Part I. Funding Opportunity Description

A. Purpose

B. The Role of the Center(s)

a. Priority Research Areas (PRA)

1. Social Security and Retirement

2. Macroeconomic Analyses of Social Security

3. Wealth and Retirement Income

4. Program Interactions

5. International Research

6. Demographic Research

b. Tasks

1. Research, Evaluation, and Data Development

2. Dissemination

3. Training and Education

4. Reporting

C. Responsibilities

1. Center Responsibilities

2. SSA Responsibilities

Part II. Award Information

A. Type of Award

B. Availability and Duration of Funding

C. Letter of Intent

Part III. Eligibility Information

A. Eligible Applicants

B. Cost Sharing or Matching

C. Other

Part IV. Application and Submission Information

A. Overview

B. Availability of Application Forms

C. Content and Organization of Technical Application

D. Components of a Complete Application

E. Guidelines for Application Submission

F. Submission Date and Times

G. Funding Restrictions

H. Other Submission Requirements

Part V. Application Review Information

A. Review Process and Funding

B. Selection Process and Evaluation Criteria

Part VI. Award Administration Information

A. Notification

B. Award Notices

C. Administration and National Policy Requirements

Part VII. Agency Contacts

Part VIII. Other

Part I. Funding Opportunity Description

A. Purpose

As authorized under section 1110 of the Social Security Act, SSA announces the solicitation of applications for a cooperative agreement to re-compete a Retirement Research Consortium (RRC). SSA seeks applications in support of the RRC that will continue to serve as a national resource fostering high quality research, communication, and education on matters related to retirement policy. The Consortium may consist of one or more research centers. The Consortium's program purpose is to benefit the public through the following:

(1) Research, evaluation, and data development. SSA expects the RRC to plan, initiate, and maintain a multi-disciplinary research program of high quality that will broadly cover retirement and Social Security program issues. A portion of the research effort can focus on the development of research data sources and providing opportunities to use non-publicly available data that can be accessed at restricted-use data sites, subject to the rules and requirements of those sites.

(2) Dissemination. The RRC will disseminate policy research findings using a variety of media to inform the academic community, policymakers, and the public.

(3) Training and education. The RRC will train and provide funding support for graduate students and postgraduates to conduct research on retirement policy related matters.

B. The Role of the Center(s)

a. Priority Research Areas (PRAs)

The successful applicant shall develop and conduct a research and evaluation program that also appropriately balances dissemination and training activities directed toward understanding retirement policy. SSA has identified six priority research areas within the realm of retirement income policy. Reviewers will score favorably applications that feature high quality research projects that address the priority areas. The priority research areas are:

1. Social Security and Retirement: Here we seek to understand how Social Security's programs influence the nature and timing of retirement and the claiming of benefits, and the impact of changes in Social Security program rules on Trust Fund solvency. Examples of research topics for this area include new insights on claiming behavior, demand and supply of older workers, health and functional capacity of older workers with an emphasis on whether older workers can work longer given longer life expectancies, early retirement and the disability program, retirement decisions of married couples, effects of voluntary individual accounts, and implications of changes in the Social Security retirement ages and other parameters of the Social Security program (e.g., tax rate, benefit amount, benefit computation.)

2. Macroeconomic Analyses of Social Security: This includes the macroeconomic and financial effects of Social Security and changes in policy on national saving, investment, and economic growth. Macroeconomic analysis also includes, but is not limited to, the intertemporal effects on capital formation, retirement savings, and the unified budget. Examples of research topics include the study of demographic change on saving, effects of national tax policy on Social Security Trust funds, and the impact on financial markets of Social Security reform.

3. Wealth and Retirement Income: This area considers the role of Social Security in retirement income and wealth accumulation. This area also includes analyses of other sources of retirement income and private savings such as employer-provided pensions, individual assets, earnings from continued employment, etc. Examples of research topics include the role of financial literacy in wealth accumulation/decumulation, the optimal design of retirement investment vehicles, effects of 401(k) and 403(b)plans on retirement wealth, measuring retiree well-being, and the distribution of retirement income sources among subgroups of interest.

4. Program Interactions: This covers interactions between current Old Age and Survivors' Insurance (OASI) and other public or private programs, like Disability Insurance (DI), Supplemental Security Income (SSI), and Medicare, as well as private pension plans and personal saving. Examples of research topics include interactions between Veterans' Disability Insurance, SSI and Social Security, reforms to promote work among the disabled, understanding retirees' take up of Medicare Part D, and in general how changes in the Social Security program (e.g., retirement ages, tax rates, benefit amounts, benefit computation) might influence applications to the DI or SSI programs.

5. International Research: The aim here is to learn from other countries' social insurance experiences. This includes cross-country comparisons of social, demographic, and institutional characteristics as well as studies of specific countries as they institute reform. Examples of research topics include cross-national comparisons of retirement policy reform, health insurance and retirement behavior, and pension reform in various countries.

6. Demographic Research: This area includes changes in mortality, fertility, immigration, health, and marital status, and their implications for retirement policy. Also included in this area are differences in the effects of Social Security policy alternatives among workers and beneficiaries by age, race/ethnicity, sex, and occupation. Examples of research topics include trends in fertility and mortality, labor market behavior of immigrants, marital histories and retirement income security, and health limitations and retirement behavior.

SSA realizes competent analysis of all priority research areas may be beyond the capacity of any one center and thus each center may wish to focus their individual resources and expertise on a subset of the areas listed above. Similarly, a center may choose to concentrate on a few aspects of the priority research areas more strongly than others. SSA expects each center to describe its quality assurance process. The goal of the Consortium as a whole is to produce high-quality research covering the range of objectives discussed above, across the separate priority areas.

b. Tasks

Each center will perform the following tasks:

1. Research, evaluation, and data development. Each center will be expected to plan, initiate, and maintain a research program that meets the highest standards of rigor and objectivity.

Joint research between Consortium and SSA researchers is encouraged, as is collaboration with other organizations interested in retirement income policy. Federal employees can not receive any funding support for collaborations. Planning and execution of the research program shall always consider the policy implications of research findings. However, SSA also considers it appropriate, for example, to engage in activities to make advances in research techniques, where these are related to primary objectives of the Consortium.

SSA recognizes the value of high-quality comprehensive micro-data for conducting policy research. The RRC should work to facilitate the development of micro-data sources as well as provide researchers with opportunities to use non-publicly available data for research purposes under secure conditions. Such efforts must adhere to clear privacy protection requirements. For example, RRC researchers may be allowed to access SSA administrative data, including administrative data files that have been linked to surveys sponsored by SSA or other Federal agencies, at SSA sites by following the requirements of SSA and those other Federal agencies. They may be subject to background checks and fingerprinting in accordance with SSA personnel suitability requirements. SSA will distribute the necessary forms and consents for completion to awardees interested in accessing administrative data at SSA sites. RRC researchers can also access restricted data at other federal agency restricted data sites, such as those of the Census Bureau and the National Center for Health Statistics, subject to the rules and restrictions of those sites. Restricted data from the Health and Retirement Study can be obtained after meeting their requirements for approval.

Examples of data improvement efforts include improving the quality of existing data sources and their documentation; aiding researchers to use administrative data extracts at SSA sites for policy-relevant research projects; developing sophisticated statistical techniques to mask micro-data; and developing new sources of data for retirement policy analysis.

In order to ensure the policy relevance, utility, and scope of the centers' research, evaluation, and data development goals, a group of nationally recognized scholars and practitioners (See Part I, Section C, Center Responsibilities) shall periodically review the center's activities.

2. Dissemination. Another important feature of each center's responsibilities is making knowledge and information available to the academic and policy communities and the public. The RRC will facilitate the process of translating basic behavioral and social research theories and findings into practical policy alternatives. The centers will be expected to maintain a dissemination system of quarterly newsletters, research papers, and policy briefs. These products should be accessible to the public via the Internet on a center-maintained Web site. In addition, the centers will be expected to organize conferences, workshops, lectures, seminars, or other ways of sharing current research activities and findings. The Consortium will hold an annual conference on issues related to retirement income policy, with organizational responsibility rotating among the centers. The centers will work with SSA to produce a conference agenda. The conference will be held in Washington, DC. The hosting center will also have the responsibility for preparing and distributing a bound volume of conference papers and related materials to conference participants.

SSA encourages applicants to propose creative methods of disseminating data and information. Applications should show sensitivity to alternative dissemination strategies that may be appropriate for different audiences, such as policymakers, practitioners, the public, advocates, and academics. The research and dissemination will be nonpartisan and of value to all levels of policymaking. SSA reserves the right to review all publications created using Consortium funding.

3. Training and education. The RRC is expected to both train new scholars and to educate academics and practitioners on new techniques and research findings on issues of retirement policy. SSA expects each center to develop and expand a diverse corps of scholars/researchers who focus their analytical skills on research and policy issues central to the Consortium's mission.

SSA expects the centers to financially support the training and research of young scholars or scholars new to the field of retirement research. The RRC should allocate funding in two ways: Dissertation fellowships to support graduate students and small research grants to support postdoctoral researchers and junior scholars. Applications solicited widely and nationally are encouraged. Graduate students working with RRC researchers on funded projects as research assistants will be included in the research budget, not in the training budget. The centers will conduct educational seminars for government analysts and policymakers on the Consortium's research findings and methodological advancements.

To assure the quality of its research, dissemination, and training, each center should establish and maintain a formal tie with a university, including links with appropriate departments within that university. Each center must have a major presence at a single site; however, alternative arrangements among entities and with individual scholars are encouraged and may be proposed.

4. Reporting. Every three months during the award period, the grantee will produce a quarterly report of progress. The grantee's quarterly progress reports should provide a concise summary of the progress being made toward completion of activities in the annual work plan. The grantee should pay particular attention in the reports to achieving any milestones set forth in the work plan, delays in achieving milestones and the impact of delays on the final product. Details regarding the format of quarterly progress reports will be provided in the RRC Terms and Conditions at the time of award.

C. Responsibilities

1. Center Responsibilities: The centers have the primary and lead responsibility to define objectives and approaches; plan research, conduct studies, and analyze data; and publish results, interpretations, and conclusions of their work.

Occasionally, SSA will request Quick Turnaround projects from the RRC. These projects include commenting on SSA research plans, providing critical commentary on research products, composing policy briefs, performing statistical policy analyses, and other activities designed to inform SSA's research, evaluation, and policy analysis function. Funding for these as well as other related activities should be included in the budget narrative at a level of $40,000. The agency can raise the ceiling above $40,000 for quick turnaround projects if both need and funds exist.

Jointly with SSA, each center will select approximately six nationally recognized scholars and practitioners who are unaffiliated with any center to provide assistance in formulating the center's research agenda and advice on implementation. Each center shall select three scholars/practitioners, and SSA will select three scholars/practitioners. Efforts will be made in selecting the scholars/practitioners to assure a broad range of academic disciplines and political viewpoints. Funded under this agreement, the scholars/practitioners must meet once a year at the RRC Annual Conference in Washington, DC. On occasion, all centers' scholars/practitioners will meet jointly to evaluate and provide advice on Consortium objectives and progress. Further, the centers may contact the scholars/practitioners throughout the year for suggestions regarding center activities. The SSA Project Officer or representative will participate in all meetings.

2. SSA Responsibilities: SSA will be involved with the Consortium in jointly establishing research priorities and deliverable dates to accomplish the objectives of this announcement. SSA, or its representatives, will provide the following types of support to the Consortium:

a. Consultation and technical assistance in planning, operating and evaluating the Consortium's activities.

b. Information about SSA programs, policies, and research priorities.

c. Assistance in identifying SSA information and technical assistance resources pertinent to the centers' success.

d. Review of Consortium activities and collegial feedback to ensure that objectives and award conditions are being met. SSA may suspend or terminate any cooperative agreement in whole or in part at any time before the date of expiration, if the awardee materially fails to comply with the terms and conditions of the cooperative agreement, technical performance requirements are not met, or the project is no longer relevant to the Agency. SSA will promptly notify the awardee in writing of the determination and the reasons for suspension or termination together with the effective date. SSA reserves the right to suspend funding for individual projects in process or in previously approved research areas or tasks after awards have been granted.

In general, SSA seeks organizations with demonstrated capacity for providing quality policy research and training, and working with government policymakers.

Part II. Award Information

A. Type of Award

All awards made under this program will be made in the form of a cooperative agreement. A cooperative agreement, as distinct from a grant, anticipates substantial involvement between SSA and the awardee during the performance of the project. A comprehensive annual review process will allow SSA to evaluate, recommend changes, and approve each center's activities. SSA's involvement may include collaboration or participation in the activities of the centers as determined at the time of award. The terms of award are in addition to, not in lieu of, otherwise applicable guidelines and procedures, and will be issued along with notice of award.

The grantee must apply to continue the cooperative agreement in order to receive funds in subsequent years of the 5-year agreement. The grantee will produce a continuation application, subject to review and approval by SSA. The continuation application should clearly describe a set of research, training, and dissemination activities that best address the priorities of SSA. SSA will engage in a dialogue with grantees throughout the award period regarding research topics. Based on that dialogue, SSA will provide the grantee with guidance (in writing) on the agency's research priorities for the subsequent continuation cycle.

B. Availability and Duration of Funding

1. Up to $7.5 million will be available to fund the initial 12-month budget period of a proposed five-year cooperative agreement(s) pursuant to the announcement.

2. Applicants must include detailed budget estimates for the first year.

3. The amount of funds available for the cooperative agreement in future years has not been established. Legislative support for continued funding of the Consortium cannot be guaranteed and funding is subject to future appropriations and budgetary approval. SSA expects, however, that the Consortium will be supported during future fiscal years at an annual level of up to $7.5 million.

4. Nothing in this announcement states that the annual funds will be divided proportionately among the centers.

5. Additional funds may become available from SSA or other Federal agencies in support of Consortium projects.

6. Initial awards, pursuant to this announcement, will be made on or about September 15, 2008.

Although up to three awards are anticipated, nothing in this announcement restricts SSA's ability to make more or fewer awards, to make an award of lesser amount, or to add additional centers to the RRC in the future. Further, SSA is not required to fund all proposed Consortium activities in any year. SSA will review all proposed activities annually and award up to $2.75 million per center per year.

C. Letter of Intent

Prospective applicants are asked to submit by May 9, 2008, a letter of intent that includes (1) this program announcement number and title; (2) a brief description of the proposed center; (3) the name, postal and e-mail addresses, and the telephone and fax numbers of the Center Director; and (4) the identities of the key personnel and participating institutions. The letter of intent is not required, is not binding, and does not enter into the review process of a subsequent application. The sole purpose of the letter of intent is to allow SSA staff to estimate the potential review workload and avoid conflicts of interest in the review. The letter of intent should be sent to: Sharmila Choudhury, RRC Letter of Intent, Office of Retirement and Disability Policy, Social Security Administration, 500 E St., SW., ITC Room 913, Washington, DC 20254-0001. E-mail: Sharmila.Choudhury@ssa.gov.

Part III. Eligibility Information

A. Eligible Applicants

SSA seeks applications from domestic Institutions of Higher Education, Hospitals, Non-Profit organizations, Commercial organizations, Federal and State Governments, and Native American tribal organizations. Each center need not be limited by geographical boundaries. A research team may consist of investigators or institutions that are geographically distant, to the extent that the research design requires and accommodates such arrangements. Nothing in this announcement precludes non-academic entities from being affiliated with an applicant.

No cooperative agreement funds may be paid as profit to any cooperative agreement recipient. For-profit organizations may apply with the understanding that no funds may be paid as profit. Profit is considered as any amount in excess of the allowable costs of the award recipient.

In accordance with an amendment to the Lobbying Disclosure Act, popularly known as the Simpson-Craig Amendment, those entities organized under section 501(c)4 of the Internal Revenue Code that engage in lobbying are prohibited from receiving Federal cooperative agreement awards.

B. Cost Sharing

SSA will not provide a center's entire funding. Recipients of an SSA cooperative agreement are required to contribute a non-Federal match of at least 5 percent toward the total approved cost of each center. The total approved cost of the project is the sum of the Federal share (maximum of 95 percent) and the non-Federal share (minimum of 5 percent). The non-Federal share may be cash or in-kind (property or services) contributions.

C. Other

Each center director must have a demonstrated capability to organize, administer, and direct the center. The director will be responsible for the organization and operation of the center and for communication with SSA on scientific and operational matters. The director must also have a minimum time commitment of 25 percent to Consortium activities. Racial/ethnic minority individuals, women, and persons with disabilities are encouraged to apply as directors. A list of previous grants and cooperative agreements held by the director shall be submitted including the names and contact information of each grant's and cooperative agreement's administrator. In addition to the director, skilled personnel and institutional resources capable of providing a strong research and evaluation base in the specified priority areas must be available. The institution must show a strong commitment to the Consortium's support. Such commitment may be provided as dedicated space, salary support for investigators or key personnel, dedicated equipment or other financial support for the proposed center.

Part IV. Application and Submission Information

A. Overview

This part contains information on the preparation of an application for submission under this announcement and the forms necessary for submission. Potential applicants should read this part carefully in conjunction with the information provided in Part I.

SSA anticipates that the applicant will have access to additional sources of funding for some projects and arrangements with other organizations and institutions. The applicant (including the center Director and other key personnel) shall make all current and anticipated related funding arrangements (including contact information for grant/contract/cooperative agreement administrators) explicit in an attachment to the application (Part IV, Section D). As part of the annual review process, this information will be updated and reviewed to limit duplicative funding for center projects.

B. Availability of Application Forms

The application kit is available at www.grants.gov. For information regarding the application package, contact: SSA, Office of Acquisition and Grants, Grants Management Team, 7111 Security Blvd., 1st Floor Rear Entrance, Baltimore, MD 21244. Contact persons are: Gary Stammer, Grants Management Officer, telephone (410) 965-9501, (e-mail: Gary.Stammer@ssa.gov); or Mary Biddle, Grants Management Officer, telephone (410) 965-9503, e-mail: Mary.Biddle@ssa.gov. The fax number is (410) 966-9310. To request an application kit for those without Internet access or for those experiencing extenuating circumstances preventing the submission of an electronic application, contact the Grants Management Office as mentioned above.

When requesting an application kit, the applicant should refer to the program announcement number SSA-ORES-08-1 and the date of this announcement to ensure receipt of the proper application kit.

C. Content and Organization of Technical Application

The application must begin with the required application forms and a three-page (double-spaced) overview and summary of the application. Staff resumes should be included in a separate appendix.

Budget Narrative: In addition to providing an explanation of the budget categories specified in the required forms, the budget narrative must also link the research, training, dissemination, and administration to the center's funding level. The special instructions attachment of the application kit provides information on the distribution and presentation of budget data. Though SSA believes that all three of the stated goals and objectives are important, it is expected that the substantial majority of funds will support Research, Evaluation, and Data Development. Funding should also be allocated to address occasional SSA requested activities (described in Part I, Section C-1).

The availability, potential availability or expectation of other funds (from the host institution, universities, foundations, other Federal agencies, etc.) and the uses to which they would be put, should be documented in this section. When additional funding is contemplated, applicants shall note whether the funding is being donated by the host institution, is in-hand from another funding source, or will be applied for from another funding source. Formal commitments for the 5 percent, non-federal, minimum budget share should be highlighted in this section.

Seeking additional support from other sources is encouraged. However, funds pertaining to this announcement must not duplicate those received from other funding sources.

Project Narrative: The core of the application must contain five sections, presented in the following order:

(1) A brief (not more than 10 pages) background analysis of the key retirement policy issues and trends with a focus on the primary research themes of the proposed center. The analysis should discuss concisely, but comprehensively, important priority research issues and demonstrate the applicant's grasp of the policy and research significance of recent and future social, economic, political, and demographic issues.

(2) A research and evaluation prospectus for a five-year research agenda, outlining the major research themes to be investigated over the next five years. In particular, the prospectus will describe the activities planned for the priority research areas and other additional research topics proposed by the applicant. The prospectus should discuss the kind of research activities that are needed to both address current Social Security issues and anticipate future policy debates. The prospectus should follow from the background analysis section. It may, of course, also discuss research areas and issues that were not mentioned in the analysis if the author(s) of the application feel there have been gaps in past research, or that new factors have begun to affect or soon will begin to affect national retirement policy. If a center intends to enhance data for retirement research purposes, they should include a discussion of the technical expertise of center staff and proposed mechanisms to facilitate the sharing of data.

The prospectus shall include detailed descriptions of individual research projects that will be expected in the center's first year of operation. The special instructions attachment of the application kit provides guidelines for project proposals. The prospectus should be specific about long-term research themes and projects. The lines of research described in the prospectus should be concrete enough that project descriptions in subsequent research plan amendments can be viewed as articulating a research theme discussed in the prospectus. An application that contains an ad hoc categorization of an unstructured set of research projects, rather than a set of projects that strike a coherent theme, will be judged unfavorably.

Note: Once a successful RRC applicant has been selected, SSA will review the RRC research agenda and determine research priorities. This may include the addition, modification, or removal of proposed research projects. After review, each center will submit to SSA a revised research plan and budget. The research plan will be periodically reviewed and revised as necessary. The application should discuss how the centers select research projects to propose, including involvement of the outside scholars/practitioners, SSA, and other advisors and participants in the consortium.

(3) A prospectus for dissemination, including ways to reach a broad audience of researchers, policymakers, and the public. Dissemination plans should detail proposed publications and conferences.

(4) A prospectus for training and education, including proposed training and educational strategies to meet the goals described in Part I, Section B-b, Task 3.

(5) A staffing and organization proposal for the center, including an analysis of the types of background needed among staff members, the center's organizational structure, and linkages with the host institution and other organizations. In this section, the applicant should specify how it will assure an effective approach to research, and where appropriate, identify the necessary links to university departments, other organizations and scholars engaged in research and government policy making.

The applicant should identify the center Director and key senior research staff. Full resumes of proposed staff members must be included as a separate appendix to the application. The time commitment to the center and other commitments for each proposed staff member shall be indicated. The application should specify how administrative arrangements would be made to minimize start-up and transition delays. Note that once the cooperative agreement has been awarded, changes in key staff will require prior approval from SSA. The kinds of administrative and tenure arrangements, if any, the center proposes to make should also be discussed in this section. In addition, the authors of the application and the role that they will play in the proposed center must be specified.

This section shall discuss the financial arrangements for supporting research assistants, dissertation fellowships, affiliates, resident scholars, etc. The discussion should include the expected number and type of scholars to be supported and the level of support anticipated.

If the applicant envisions an arrangement of several universities or entities, this section should describe the specifics of the relationships, including leadership, management, and administration. The staffing proposal should pay particular attention to discussing how a focal point for research, training, and scholarship will be maintained given the arrangement proposed.

The application also should discuss the role, selection procedure, and expected contribution of the outside scholars/practitioners (See Part I, Section C-1).

The application should provide an organizational experience summary of past work at the institution proposed as the location (or the host) of the center that relates directly or indirectly to the research priorities of this request. This discussion should include more than a listing of the individual projects completed by the individuals who are included in the application. The discussion should provide a sense of institutional commitment to policy research on issues involving retirement policy. The application must list in an appendix appropriate recent or current research projects, with a brief research summary, contact person, references, and address and telephone numbers of references. This section should also discuss the experience of the research staff in working with the government agencies and their demonstrated capacity to provide policy relevant support to these agencies.

D. Components of a Complete Application

A complete application package consists of one electronic application. It should include the following items:

1. Project Abstract/Summary (not to exceed three pages);

2. Table of Contents;

3. Part I (Face Sheet)—Application for Federal Assistance (Standard Form 424);

4. Part II—Budget Information—

a. Form SF-424A—Sections A through F

b. Form SSA SF-424 Section G—Personnel

5. Budget Narrative for Section B—Budget Categories;

6. Copy of the applicant's approved indirect cost rate agreement, if appropriate;

7. Part III—Project Narrative. The project narrative should be organized in five sections:

(1) Background Analysis,

(2) Research, Evaluation, and Data Development Prospectus,

(3) Dissemination Prospectus,

(4) Training and Education Prospectus,

(5) Staffing Proposal Including Staff Utilization, Staff Background, and Organizational Experience.

8. Assurances—Form SF-424B;

9. Disclosure of Lobbying Activities, Form SF-LLL, if applicable.

10. Any appendices/attachments.

E. Guidelines for Application Submission

These guidelines should be followed in submitting applications:

—All applications requesting SSA funds for cooperative agreement projects under this announcement must be submitted on the standard forms provided in the application kit.

—The application shall be executed by an individual authorized to act for the applicant organization and to assume for the applicant organization the obligations imposed by the terms and conditions of the cooperative agreement award.

—Length: Applications should be as brief and concise as possible, but assure successful communication of the applicant's proposal to the reviewers. The Project Narrative portion of the application may not exceed 150 double spaced pages (excluding the resume and outside funding appendices), equivalent to being typewritten on one side using standard (8½″ x 11″) size paper and 12 point font. Attachments that support the project narrative count within the 150 page limit. Attachments not applicable to the project narrative do not count toward this page limit.

—Attachments/Appendices, when included should be used only to provide supporting documentation.

—On all applications developed by more than one organization, the application must identify only one institution as the lead organization and the official applicant. The other(s) can be included as sub grantees or subcontractors.

F. Submission Dates and Times

Applicants must submit applications through www.grants.gov by the closing date of June 9, 2008. However, when the SSA Grants Management Team approves the submission of a mailed application due to extenuating circumstances, applications may be mailed or hand-delivered to: Social Security Administration, Office of Acquisition and Grants, Grants Management Team, Attention: SSA-ORES-08-1, 1st Floor-Rear Entrance, 7111 Security Blvd., Baltimore, MD 21244. Hand-delivered applications are accepted between the hours of 8 a.m. and 5 p.m., Monday through Friday. An application will be considered as meeting the deadline if it is either:

• Received from Grants.gov on or before the deadline date; or

• Received at the above address on or before the deadline, when a mailed application has been authorized by the Grants Management Team; or

• Postmarked by June 9, 2008 when a mailed application has been authorized by the Grants Management Team. Packages approved for mailing must be sent through the U.S. Postal Service or by commercial carrier on or before the deadline date and received in time to be considered during the competitive review and evaluation process. Applicants are cautioned to request a legibly dated U.S. Postal Service postmark or to obtain a legibly dated receipt from a commercial carrier as evidence of timely mailing. Private metered postmarks are not acceptable as proof of timely mailing.

Applications that do not meet the above criteria will be considered late applications. SSA will not waive or extend the deadline for any applicant unless the deadline is waived or extended for all applicants. SSA will notify each late applicant that its application will not be considered.

Letters of intent, which are optional, are requested by May 9, 2008. See Part II, Section C for details.

G. Funding Restrictions

There will be limitations concerning allowable construction expenses. Submitted budgets may include minor construction expenses, such as alterations and renovations. This could include work required to change the interior arrangements or other physical characteristics of an existing facility or installed equipment so that it may be more effectively used for the project. Alteration and renovation may include work referred to as improvements, conversion, rehabilitation, remodeling, or modernization, but is distinguished from construction and large scale permanent improvements.

Awards will not allow reimbursement of pre-award costs.

H. Other Submission Requirements

SSA requires applicants to submit an electronic application through www.grants.gov for Funding Opportunity Number SSA-ORES-08-1. If you experience problems with application submission, your first point of contact is the Grants.gov support staff at support@grants.gov, 1-800-518-4726. If your difficulties are not resolved, you may also contact the SSA Grants Management Team for assistance: Gary Stammer, 410-965-9501; Audrey Adams, 410-965-9469; or Mary Biddle, 410-965-9503. If extenuating circumstances prevent you from submitting an application through www.grants.gov, please contact the SSA Grants Management Team for possible prior written approval to download, complete and submit an application by mail. When such approval is granted, the downloadable application package will be available at www.ssa.gov/oag. The address for pre-approved mailed applications is: Social Security Administration, Office of Acquisition and Grants, Grants Management Team, Attention: SSA-ORES-08-1, 1st Floor-Rear Entrance, 7111 Security Blvd., Baltimore, MD 21244. To ensure receipt of the proper application package, please include program announcement number SSA-ORES-08-1 and the date of this announcement.

Part V. Application Review Information

A. Review Process and Funding

In addition to any other reviews, a review panel consisting of at least three qualified persons will be formed. Each panelist will objectively review and score the cooperative agreement applications using the evaluation criteria listed below. The panel will recommend centers based on (1) the application scores; (2) the feasibility and adequacy of the project plan and methodology; and (3) how the centers would jointly meet the objectives of the Consortium. The Agency will consider the panel's recommendations when awarding the cooperative agreements. Although the results from the review panel are the primary factor used in making funding decisions, they are not the sole basis for making awards. The Agency will consider other factors as well (such as duplication of internal and external research effort) when making funding decisions.

All applicants must use the guidelines provided in the SSA application kit at www.grants.gov by June 9, 2008 for preparing applications requesting funding under this cooperative agreement announcement. These guidelines describe the minimum amount of required project information. However, when completing the Project Narrative, please follow the guidelines under Part IV, Section C, above.

All awardees must adhere to SSA's Privacy and Confidentiality Regulations (20 CFR part 401) as well as provide specific safeguards surrounding client information sharing, paper/computer records/data, and other issues potentially arising from administrative data. Additional details regarding safeguarding of Personally Identifiable Information are available in the SSA Grants Administration Manual, Section 3-10-60, available at http://www.ssa.gov/oag/grants/ssagrant_info.htm.

B. Selection Process and Evaluation Criteria

The evaluation criteria correspond to the outline for the development of the Budget and Project Narrative Statement of the application described in Part IV, Section C, above. The application should be prepared in the format indicated by the outline described in the components of a complete application (Part IV, Section D).

Selection of the successful applicants will be based on the technical and financial criteria laid out in this announcement. Reviewers will determine the strengths and weaknesses of each application in terms of the evaluation criteria listed below.

The point value following each criterion heading indicates the maximum numerical relative weight that each section will be given in the review process. An unacceptable rating on any individual criterion may render the application unacceptable. Consequently, applicants should take care that all criteria are fully addressed in the applications. Applications will be reviewed as follows:

(1) Quality of the background analysis. (10 points)

Applications will be judged on whether they provide a thoughtful and coherent discussion of political, economic, social, and demographic issues influencing retirement and solvency. Reviewers will judge applicants' abilities to discuss the past, present, and future role of government programs and polices which affect these issues and how these are tied to their proposed research agenda.

(2) Quality of the research and evaluation prospectus. (40 points)

Reviewers will judge this section on whether the research agenda is scientifically sound and policy relevant. They also will consider whether the applicant is likely to produce significant contributions to their proposed research areas and how closely the proposed projects fit the objectives for which the applications were solicited.

The application will be judged on the breadth and depth of the applicant's commitment to research and evaluation of the priority research areas described in Part I, Section B, part a. The discussion and research proposed must address at least three priority research areas, preferably with a multi-disciplinary approach. Applicants will generally receive higher scores for addressing more than three priority research areas. However, a strong proposal focusing on three areas will outscore one that is broad and weakly defined. Applicants with additional insightful research proposals will also score higher. Besides detailed plans for research projects in the first year, the research agenda should discuss possible projects over the longer five-year horizon. Reviewers will rate applications on the contents of the plans to conduct policy relevant research.

(3) Dissemination. (15 points)

Reviewers will evaluate strategies for dissemination of research and other related information to a broad and disparate set of academic, research, and policy communities as well as to the public. Reviewers will also evaluate whether the appropriate dissemination method is being proposed for targeted audiences of academics and researchers, policymakers, and the public. Proposed strategies that increase dissemination across centers and other organizations conducting retirement research will also receive higher ratings.

(4) Training. (10 points)

The evaluation of the training and education prospectus will include an assessment of plans to enhance the training of graduate students and young scholars through direct financial support as well as exposure to policy research. An approach that solicits applications widely and from across the nation is encouraged. In addition, reviewers will evaluate proposed strategies for educating and training policymakers and practitioners on issues of retirement.

(5) Quality of the staffing proposal and proposed administration. (15 points)

Reviewers will judge the applicant's center Director and staff on research experience, demonstrated research skills, administrative skills, public administration experience, and relevant policy-making skills. An additional criterion will be the center's demonstrated potential to act as a conduit between basic and applied behavioral and social science research and policy analysis/evaluation. Both the evidence of past involvement in related research and the specific plans for seeking applied outcomes described in the application shall be considered part of that potential. Reviewers may consider references from grant/cooperative agreement administrators on previous grants and cooperative agreements held by the proposed center Director or other key personnel. Director and staff time commitments to the center also will be a factor in evaluation. Reviewers will evaluate the affiliations of proposed key personnel to ensure the required multi-disciplinary nature of the consortium is being fulfilled.

Applicants will be judged on the nature and extent of the organizational support for research, mentoring scholars, dissemination, and in areas related to the center's central priorities and this request. Reviewers will evaluate the commitment of the host institution (and the proposed institutional unit that will contain the center) to assess its ability to support all three of the center's major activities: (1) Research, evaluation, and data development; (2) dissemination; (3) education and training. Reviewers also will evaluate the applicant's demonstrated capacity to work with a range of government agencies.

(6) Appropriateness of the budget for carrying out the planned staffing and activities. (10 points)

Reviewers will consider whether (1) the budget assures an efficient and effective allocation of funds to achieve the objectives of this solicitation, and (2) the applicant has additional funding from other sources, in particular, the host institution. Applications that show funding from other sources that supplement funds from this cooperative agreement will be given higher marks than those without financial support. Awardees are required to contribute a minimum of 5 percent cost share of total project costs.

Panel Recommendations. Once each application is scored and ranked, the panel will then review the top applicants and recommend centers that together best address the range of responsibilities described in Part I.

Part VI. Award Administration Information

A. Notification

Grants.gov will issue application receipt acknowledgements.

B. Award Notices

Applicants who have been selected will receive an official electronic notice of award signed by an SSA Grants Management Officer around September 15, 2008. Those who were not selected will be notified by official letter.

C. Administration and National Policy Requirements

Executive Order 12372 and 12416—Intergovernmental Review of Federal Programs

This program is not covered by the requirements of Executive Order (E.O.) 12372, as amended by E.O. 12416, relating to the Federal policy for consulting with State and local elected officials on proposed Federal financial assistance.

VII. Agency Contacts

For matters related to the application and submission process for this cooperative agreement, contact Grants Management Officer, Gary Stammer at (410) 965-9501 or gary.stammer@ssa.gov, or Mary Biddle, Grants Management Officer, at (410) 965-9503 or Mary.Biddle@ssa.gov. The mailing address is SSA, Office of Acquisition and Grants, Grants Management Team, 7111 Security Blvd., 1st Floor, Rear Entrance, Baltimore, MD 21244. The fax number is (410) 966-9310.

For program content information, contact the RRC Project Officer, Sharmila Choudhury at (202) 358-6261 or sharmila.choudhury@ssa.gov. The mailing address is SSA, Office of Retirement and Disability Policy, 500 E St., SW., Room 913, Washington, DC 20254. The fax number is (202) 358-6187.

VIII. Other

This announcement is for the re-competition of the RRC. The cooperative agreement for the RRC currently in place was awarded in 2003 and will expire in September 2008.

Along with the official notice of award each year, SSA will issue a set of Terms and Conditions that define closely the responsibilities of the center and SSA towards meeting the goals of the cooperative agreement.

An Annual Priority Research Memo will also be issued each year before the start of the continuation cycle to guide the centers in preparing their continuation applications.

SSA is committed to accessibility of its products to persons with disabilities. Each center's Web site should meet accessibility standards identified in Section 508 of the Rehabilitation Act. The annual conference also should be accessible to persons with disabilities.

Additional information on how SSA sponsors grants and other details may be found on the Grants Home page at http://www.ssa.gov/oag.

(Catalog of Federal Domestic Assistance: Program No. 96.007, Social Security—Research and Demonstration)

Dated: March 21, 2008.
Michael J. Astrue,
Commissioner of Social Security.

[FR Doc. E8-6948 Filed 4-2-08; 8:45 am]

BILLING CODE 4191-02-P